DEPARTMENT OF JUSTICE

Drug Enforcement Administration

Manufacturer of Controlled Substances; Notice of Registration

By Notice dated June 26, 2007, and published in the Federal Register on July 3, 2007, (72 FR 36481), Dade Behring, Inc., 100 GBC Drive, MS514, Post Office Box 6101, Attention: RA/GS, Newark, Delaware 19714-6101, made application by renewal to the Drug Enforcement Administration (DEA) to be registered as a bulk manufacturer of the basic classes of controlled substances listed in schedule I and II:

Drug | Schedule
Tetrahydrocannabinols (7370) | I
Benzoylecgonine (9180) | II
Morphine (9300) | II

The company plans to produce the listed controlled substances in bulk to be used in the manufacture of reagents and drug calibrator/controls for DEA exempt products.

No comments or objections have been received. DEA has considered the factors in 21 U.S.C. 823(a) and determined that the registration of Dade Behring, Inc. to manufacture the listed basic class of controlled substance is consistent with the public interest at this time. DEA has investigated Dade Behring, Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: November 5, 2007.
Joseph T. Rannazzisi,
Deputy Assistant Administrator, Office of Diversion Control, Drug Enforcement Administration.

[FR Doc. E7-22470 Filed 11-15-07; 8:45 am]

BILLING CODE 4410-09-P